SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: October 1-31, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f)(13) and 18 CFR 806.22(f) for the time period specified above:

Water Source Approval—Issued Under 18 CFR 806.22(f)(13)

1. Beech Resources, LLC, Montoursville Borough Water Works; NOI-2019-0330; Montoursville Borough, Lycoming County, Pa.; Obtain Up to 0.4000 mgd; Approval Date: October 30, 2019.

Approvals by Rule—Issued Under 18 CFR 806.22(f)

1. Repsol Oil & Gas USA, LLC; Pad ID: SHERMAN (03 144) M; ABR-201910001; Columbia Township, Bradford County, Pa.; Consumptive Use of Up to 6.0000 mgd; Approval Date: October 7, 2019.

2. EOG Resources, Inc.; Pad ID: Houseknecht 2H; ABR-20090419.R2; Springfield Township, Bradford County, Pa.; Consumptive Use of Up to 5.0000 mgd; Approval Date: October 10, 2019.

3. EOG Resources, Inc.; Pad ID: Ward M 1H; ABR-20090421.R2; Springfield Township, Bradford County, Pa.; Consumptive Use of Up to 5.0000 mgd; Approval Date: October 10, 2019.

4. EOG Resources, Inc.; Pad ID: Housknecht 3H; ABR-20090422.R2; Springfield Township, Bradford County, Pa.; Consumptive Use of Up to 5.0000 mgd; Approval Date: October 10, 2019.

5. EOG Resources, Inc.; Pad ID: Housknecht 1H; ABR-20090423.R2; Springfield Township, Bradford County, Pa.; Consumptive Use of Up to 5.0000 mgd; Approval Date: October 10, 2019.

6. Repsol Oil & Gas USA, LLC; Pad ID: CLDC (02 178) M; ABR-201910002; Ward Township, Tioga County, Pa.; Consumptive Use of Up to 6.0000 mgd; Approval Date: October 14, 2019.

7. Cabot Oil & Gas Corporation; Pad ID: Pijanowski J P1; ABR-201404002.R1; Springville Township, Susquehanna County, Pa.; Consumptive Use of Up to 5.0000 mgd; Approval Date: October 21, 2019.

8. Cabot Oil & Gas Corporation; Pad ID: Plonski I P1; ABR-201405008.R1; Gibson Township, Susquehanna County, Pa.; Consumptive Use of Up to 5.0000 mgd; Approval Date: October 21, 2019.

9. Cabot Oil & Gas Corporation; Pad ID: Friedland Farms P1; ABR-201405009.R1; Lenox Township, Susquehanna County, Pa.; Consumptive Use of Up to 5.0000 mgd; Approval Date: October 21, 2019.

10. Chief Oil & Gas, LLC; Pad ID: Phelps B Drilling Pad; ABR-201409001.R1; Lathrop Township, Susquehanna County, Pa.; Consumptive Use of Up to 2.5000 mgd; Approval Date: October 21, 2019.

11. Cabot Oil & Gas Corporation; Pad ID: Gesford P1; ABR-20090547.R2; Dimock Township, Susquehanna County, Pa.; Consumptive Use of Up to 3.5750 mgd; Approval Date: October 21, 2019.

12. Cabot Oil & Gas Corporation; Pad ID: Greenwood; ABR-20090548.R2; Dimock Township, Susquehanna County, Pa.; Consumptive Use of Up to 3.5750 mgd; Approval Date: October 21, 2019.

13. Cabot Oil & Gas Corporation; Pad ID: Gesford P4; ABR-20090550.R2; Dimock Township, Susquehanna County, Pa.; Consumptive Use of Up to 3.5750 mgd; Approval Date: October 21, 2019.

14. Seneca Resources Company, LLC.; Pad ID: PHC 23H/24H; ABR-20090917.R2; Lawrence Township, Clearfield County, Pa.; Consumptive Use of Up to 3.0000 mgd; Approval Date: October 21, 2019.

15. Seneca Resources Company, LLC.; Pad ID: PHC 28H/29H; ABR-20090918.R2; Lawrence Township, Clearfield County, Pa.; Consumptive Use of Up to 3.0000 mgd; Approval Date: October 21, 2019.

16. Seneca Resources Company, LLC.; Pad ID: D. M. Pino Pad H; ABR-20090933.R2; Covington Township, Tioga County, Pa.; Consumptive Use of Up to 2.0000 mgd; Approval Date: October 21, 2019.

17. Cabot Oil & Gas Corporation; Pad ID: Heitsman P1; ABR-20090537.R2; Dimock Township, Susquehanna County, Pa.; Consumptive Use of Up to 3.5750 mgd; Approval Date: October 24, 2019.

18. Cabot Oil & Gas Corporation; Pad ID: Lathrop P1; ABR-20090538.R2; Springville Township, Susquehanna County, Pa.; Consumptive Use of Up to 3.5750 mgd; Approval Date: October 24, 2019.

19. Cabot Oil & Gas Corporation; Pad ID: Hubbard P1; ABR-20090545.R2; Dimock Township, Susquehanna County, Pa.; Consumptive Use of Up to 3.5750 mgd; Approval Date: October 24, 2019.

20. Cabot Oil & Gas Corporation; Pad ID: HeitsmanA P2; ABR-20090552.R2; Dimock Township, Susquehanna County, Pa.; Consumptive Use of Up to 3.5750 mgd; Approval Date: October 24, 2019.

21. Cabot Oil & Gas Corporation; Pad ID: SevercoolB P1; ABR-20090536.R2; Dimock Township, Susquehanna County, Pa.; Consumptive Use of Up to 3.5750 mgd; Approval Date: October 25, 2019.

22. Cabot Oil & Gas Corporation; Pad ID: Ratzel P1; ABR-20090539.R2; Dimock Township, Susquehanna County, Pa.; Consumptive Use of Up to 3.5750 mgd; Approval Date: October 25, 2019.

23. Cabot Oil & Gas Corporation; Pad ID: Smith P1; ABR-20090540.R2; Springville Township, Susquehanna County, Pa.; Consumptive Use of Up to 3.5750 mgd; Approval Date: October 25, 2019.

24. Cabot Oil & Gas Corporation; Pad ID: Rozanski P1; ABR-20090553.R2; Dimock Township, Susquehanna County, Pa.; Consumptive Use of Up to 3.5750 mgd; Approval Date: October 25, 2019.

25. Cabot Oil & Gas Corporation; Pad ID: Smith P3; ABR-20090554.R2; Springville Township, Susquehanna County, Pa.; Consumptive Use of Up to 3.5750 mgd; Approval Date: October 28, 2019.

Authority: Pub. L. 91-575, 84 Stat. 1509 et seq., 18 CFR parts 806, 807, and 808.

Dated: December 10, 2019.
Jason E. Oyler,
General Counsel and Secretary to the Commission.

[FR Doc. 2019-26927 Filed 12-12-19; 8:45 am]

BILLING CODE 7040-01-P